DEPARTMENT OF AGRICULTURE

Submission for OMB Review; Comment Request

July 18, 2018.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by August 22, 2018 will be considered. Written comments should be addressed to: Desk Officer for Agriculture, Office of Information and Regulatory Affairs, Office of Management and Budget (OMB), New Executive Office Building, 725—17th Street NW, Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: Endangered Species Regulations and Forfeiture Procedures

OMB Control Number: 0579-0076

Summary of Collection: The Endangered Species Act of 1973 (16 U.S.C. 1513 et. seq.) directs Federal departments to utilize their authorities under the Act to conserve endangered and threatened species. Section 3 of the Act specifies that the Secretary of Agriculture is authorized to promulgate such regulations as may be appropriate to enforce the Act. These regulations are contained in 7 CFR parts 355 and 356, and the Plant Protection and Quarantine (PPQ) division of USDA's Animal and Plant Health Inspection Service (APHIS) is responsible for implementing them. Specifically, Section 9(d) of the Act authorizes 7 CFR 355.11, which requires a permit to engage in the business of importing or exporting terrestrial plants listed in 50 CFR parts 17 and 23. To enforce the regulations, APHIS will collect information using several forms and activities.

Need and use of the Information: APHIS will use the following information activities to conserve endangered and threatened species of terrestrial plants: Applications for protected plant permit, appeals of denial of general permit, marking and notification requirements, notices of arrival, notices of exportation, validation of documents, waivers of forfeiture procedures by owners of seized property, requests for return of property, petitions for remission or mitigation of forfeiture, reports, and recordkeeping. The information provided by these information collection activities is critical to APHIS ability to carry out its responsibilities under the Endangered Species Act and the Lacey Act.

Description of Respondents: Business or other for-profit.

Number of Respondents: 1,097.

Frequency of Responses: Recordkeeping; Reporting: On occasion.

Total Burden Hours: 15,254.

Animal and Plant Health Inspection Service

Title: Importation of Mangoes from Australia.

OMB Control Number: 0579-0391.

Summary of Collection: Under the Plant Protection Act (PPA) (7 U.S.C 7701—et seq.), the Secretary of Agriculture is authorized to carry out operations or measures to detect, eradicate, suppress, control, prevent, or retard the spread of plant pests new to the United States or not known to be widely distributed throughout the United States. The regulations in “Subpart—Fruits and Vegetables” (Title 7, CFR 319.56) prohibit or restrict the importation of fruits and vegetables into the U.S. from certain parts of the world. The Animal and Plant Health Inspection Service (APHIS) is responsible for carrying out these duties. APHIS has amended the fruits and vegetables regulations to allow, under certain conditions, the importation into the U.S. of commercial consignments of fresh mangoes from Australia.

Need and Use of the Information: Conditions for the importation of fresh mangoes from Australia include requirements include phytosanitary certificate issued by the National Plant Protection Organization of Australia with an additional declaration confirming that the mangoes have been produced in accordance with the requirements, Inspections of Sites, Inspections of mangos, Notice of Arrival, and Emergency Action Notification. APHIS will use this information to allow the importation of commercial consignments of fresh mangoes from Australia into the United States. Failing to collect this information would cripple APHIS ability to ensure that mangoes from Australia are not carrying plant pests.

Description of Respondents: Business or other for-profit; Federal Government.

Number of Respondents: 20.

Frequency Of Responses: Reporting: On occasion.

Total Burden Hours: 163.

Ruth Brown,
Departmental Information Collection Clearance Officer.

[FR Doc. 2018-15696 Filed 7-20-18; 8:45 am]

BILLING CODE 3410-34-P